DEPARTMENT OF STATE

[Public Notice: 11927]

30-Day Notice of Proposed Information Collection: Request for Commodity Jurisdiction Determination

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to December 30, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Andrea Battista, who may be reached at battistaal@state.gov via email and 202-992-0973 via phone.

SUPPLEMENTARY INFORMATION:

• Title of Information Collection: Request for Commodity Jurisdiction Determination.

• OMB Control Number: 1405-0163.

• Type of Request: Revision of a currently approved collection.

• Originating Office: Directorate of Defense Trade Controls (PM/DDTC).

• Form Number: DS-4076.

• Respondents: Any person requesting a commodity jurisdiction determination.

• Estimated Number of Responses: 400.

• Average Time per Response: 4 hours.

• Total Estimated Burden Time: 1,600 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

• Please note that comments submitted in response to this Notice are public record. Before including any detailed personal information, you should be aware that your comments as submitted, including your personal information, will be available for public review.

Abstract of Proposed Collection

Pursuant to ITAR section 120.4, a person, as defined by ITAR section 120.14, may request a written determination from the Department of State stating whether a particular article or defense service is covered by the United States Munitions List (USML). Form DS-4076 is the means by which respondents may submit this request. Information submitted via DS-4076 will be shared with the Department of Defense, Department of Commerce, and other USG agencies, as needed, during the commodity jurisdiction process. Determinations will be made on a case-by-case basis based on the commodity's form, fit, function, and performance capability.

Methodology

Respondents must generally submit the DS-4076 electronically through DDTC's electronic system. Respondents may access the DS-4076 on DDTC's website, www.pmddtc.state.gov, under “Commodity Jurisdictions (CJs).” Respondents who are unable to access DDTC's website may mail a signed DS-4076, along with a brief cover letter explaining their inability to file the electronic DS-4076, to the Office of Defense Trade Controls Policy, Department of State, 2401 E St. NW, Suite H1304, Washington, DC 20522.

Kevin E Bryant,
Deputy Director, Office of Directives Management, Department of State.

[FR Doc. 2022-26103 Filed 11-29-22; 8:45 am]

BILLING CODE 4710-25-P